DEPARTMENT OF ENERGY

Federal Energy Regulatory Commission

Combined Notice of Filings #2

Take notice that the Commission received the following exempt wholesale generator filings:

Docket Numbers: EG16-108-000.

Applicants: Deepwater Wind Block Island, LLC.

Description: Notice of Self-Certification of Exempt Wholesale Generator Status of Deepwater Wind Block Island, LLC.

Filed Date: 5/27/16.

Accession Number: 20160527-5165.

Comments Due: 5 p.m. ET 6/17/16.

Take notice that the Commission received the following electric rate filings:

Docket Numbers: ER16-938-003.

Applicants: Arizona Public Service Company.

Description: Compliance filing: Compliance Filing—OATT Revisions to be effective 5/1/2016.

Filed Date: 5/27/16.

Accession Number: 20160527-5160.

Comments Due: 5 p.m. ET 6/17/16.

Docket Numbers: ER16-1343-001.

Applicants: Midcontinent Independent System Operator, Inc.

Description: Tariff Amendment: 2016-05-27_SA 2909 Amended Certificate of Conurrence METC-ITCI IA to be effective 6/1/2016.

Filed Date: 5/27/16.

Accession Number: 20160527-5167.

Comments Due: 5 p.m. ET 6/17/16.

Docket Numbers: ER16-1801-000.

Applicants: Midcontinent Independent System Operator, Inc.

Description: § 205(d) Rate Filing: 2016-05-27 IMM Response Period Filing to be effective 5/28/2016.

Filed Date: 5/27/16.

Accession Number: 20160527-5096.

Comments Due: 5 p.m. ET 6/17/16.

Docket Numbers: ER16-1802-000.

Applicants: Hermiston Generating Company, L.P.

Description: § 205(d) Rate Filing: Hermiston Generating Company, L.P. MBR Amendment to be effective 7/1/2016.

Filed Date: 5/27/16.

Accession Number: 20160527-5103.

Comments Due: 5 p.m. ET 6/17/16.

Docket Numbers: ER16-1803-000.

Applicants: Southern California Edison Company.

Description: § 205(d) Rate Filing: LGIA, Service Agreement No. 176 to be effective 6/1/2016.

Filed Date: 5/27/16.

Accession Number: 20160527-5104.

Comments Due: 5 p.m. ET 6/17/16.

Docket Numbers: ER16-1804-000.

Applicants: Deepwater Wind Block Island, LLC.

Description: Baseline eTariff Filing: MBR Application to be effective 7/27/2016.

Filed Date: 5/27/16.

Accession Number: 20160527-5154.

Comments Due: 5 p.m. ET 6/17/16.

Docket Numbers: ER16-1805-000.

Applicants: Duke Energy Ohio, Inc.

Description: § 205(d) Rate Filing: Georgetown Filing Added Facilities Letter Agreement to be effective 5/31/2016.

Filed Date: 5/27/16.

Accession Number: 20160527-5175.

Comments Due: 5 p.m. ET 6/17/16.

Docket Numbers: ER16-1806-000.

Applicants: Entergy Louisiana, LLC, Entergy Texas, Inc., Entergy New Orleans, Inc.

Description: Tenth Annual filing implementing Service Schedule MSS-3 Rough Production Cost Equalization Bandwidth Calculation of Entergy Services, Inc. on behalf of the Entergy Operating Companies.

Filed Date: 5/27/16.

Accession Number: 20160527-5176.

Comments Due: 5 p.m. ET 6/17/16.

Docket Numbers: ER16-1807-000.

Applicants: FirstEnergy Solutions Corp.

Description: Compliance filing: Compliance filing 2016 to be effective 1/27/2016.

Filed Date: 5/27/16.

Accession Number: 20160527-5199.

Comments Due: 5 p.m. ET 6/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2016.
Nathaniel J. Davis, Sr.,
Deputy Secretary.

[FR Doc. 2016-13129 Filed 6-2-16; 8:45 am]

BILLING CODE 6717-01-P